DEPARTMENT OF AGRICULTURE

Forest Service

RIN 0596-AD06

National Forest System Land Management Planning Directives

AGENCY: Forest Service, USDA.

ACTION: Notice of issuance of agency proposed directives; request for comment.

SUMMARY: The Forest Service has issued proposed directives to Forest Service Handbook (FSH 1909.12) and Manual (FSM 1920) establishing procedures and responsibilities for implementing the National Forest System (NFS) land management planning regulation. Issuance of these proposed directives will provide consistent overall guidance to Forest Service Line Officers and Agency employees in developing, amending, or revising land management plans for units of the NFS. Public comment is invited and will be considered in developing the final directives.

DATES: Comments must be received in writing by April 29, 2013.

ADDRESSES: Submit comments concerning the proposed directives through one of the following methods:

1. Public participation portal: https://cara.ecosystem-management.org/Public/CommentInput?Project=30641. Comments may also be provided through the Federal rulemaking portal: http://www.regulations.gov.

2. Facsimile: Fax to: 503.224.1851. Please identify your comments by including “RIN 0596-AD06” or “planning directives” on the cover sheet or the first page.

3. U.S. Postal Service: The mailing address is: USDA Forest Service Planning Directives Comments, P.O. Box 40088, Portland, OR 97240.

FOR FURTHER INFORMATION CONTACT: Annie Eberhart Goode, Planning Specialist, Ecosystem Management Coordination Staff, 202-205-1056 or 703-605-4478.

SUPPLEMENTARY INFORMATION: The Forest Service has issued proposed directives to Forest Service Handbook (FSH 1909.12) and Manual (FSM 1920) establishing procedures and responsibilities for implementing the National Forest System (NFS) land management planning regulation set out at 36 CFR part 219. This promulgated rule was published in the Federal Register on April 9, 2012 (77 FR 21161).

Public Participation

Please note that the Forest Service will not be able to receive hand-delivered comments. In addition, please note that all comments, including names and addresses when provided, will be placed in the record and available for public inspection and copying. The Agency cannot confirm receipt of comments. Individuals wishing to inspect comments should call Jody Sutton at 801-517-1020 to schedule an appointment.

These proposed directives are a revision of Forest Service Handbook (FSH) 1919.12 and Forest Service Manual (FSM) 1920. Copies of the proposed directives are available on the World Wide Web/Internet at http://www.fs.usda.gov/goto/planningrule/directives. Copies may be obtained by contacting one of the following Regional Offices:

Region | Phone No. | Address
Northern Region—R1 | 406-329-3511 | Street Address: 200 E. Broadway, Missoula, MT 59802.
|  | Mailing address: P.O. Box 7669, Missoula, MT 59807-7669.
Rocky Mountain Region—R2 | 303-275-5350 | Street Address: 740 Simms St., Golden, CO 80401.
|  | Mailing address: P.O. Box 25127, Lakewood, CO 80225-0127.
Southwestern Region—R3 | 505-842-3292 | 333 Broadway SE., Albuquerque, NM 87102.
Intermountain Region—R4 | 801-625-5605 | 324 25th Street, Ogden, UT 84401.
Pacific Southwest Region—R5 | 707-562-8737 | 1323 Club Drive, Vallejo, CA 94592.
Pacific Northwest Region—R6 | 503-808-2468 | Street Address: 333 SW. First Avenue, Portland, Oregon 97204.
|  | Mailing address: P.O. Box 3623, Portland, OR 97208-3623.
Southern Region—R8 | 404-347-4095 | 1720 Peachtree Rd. NW., Atlanta, GA 30309.
Eastern Region—R9 | 414-297-3600 | 626 East Wisconsin Ave. Milwaukee, WI 53202.
Alaska Region—R10 | 907-586-8806 | P.O. Box 21628, Juneau, AK 99802-1628.

Readers are encouraged to obtain a copy of the proposed directives to formulate their comments and provide input for the development of the final planning directives.

Background

On April 9, 2012, the U. S. Department of Agriculture (Department or USDA) adopted final planning regulations for the NFS at 36 CFR part 219 (77 FR 21161). These regulations, known collectively as the 2012 Planning Rule, provide broad programmatic direction in developing and carrying out land management planning. The rule explicitly directs the Chief of the Forest Service to establish planning procedures in the Forest Service Directives System (36 CFR 219.1(c)).

The Forest Service is implementing the 2012 Planning Rule. Those responsible officials that are implementing the 2012 Planning Rule must follow the regulations at 36 CFR 219 and applicable existing Forest Service Directives until they are superseded.

The Forest Service Directives System consist of the Forest Service Manual (FSM) and the Forest Service Handbook (FSH), which contain the Agency's policies, practices, and procedures, and serves as the primary basis for the internal management and control of programs and administrative direction to Forest Service employees. The directives for all Agency programs are set out on the World Wide Web/Internet at http://www.fs.fed.us/im/directives.

Specifically, the FSM contains legal authorities, objectives, policies, responsibilities, instructions, and guidance needed on a continuing basis by Forest Service Line Officers and primary staff to plan and execute programs and activities. The FSH is the principal source of specialized guidance and instruction for carrying out the policies, objectives, and responsibilities contained in the FSM.

For these proposed directives, both the FSM and the FSH provide policy direction, objectives, instructions, and guidance for Forest Service Line Officers and primary staff to plan and execute the process of developing, revising, amending, and making administrative changes to plans.

Content of Proposed Directives

The following is an overview of the contents of the proposed directives.

FSM 1920—Land Management Planning Manual

This Forest Service Manual describes a process for developing, revising, amending, and making administrative changes to land management plans for the National Forest System (NFS). It includes authorities and responsibilities. It should be used in conjunction with the FSH.

FSH 1909.12—Land Management Planning Handbook

This FSH provides policy direction, objectives, instructions and guidance for the process of developing, revising, amending, and making administrative changes to plans for the NFS. It includes authorities and responsibilities.

Zero Code

The section known as the zero code contains authorities, responsibilities, and select definitions applicable to subsequent chapters.

Chapter 10—The Assessment

This chapter describes the procedures for writing an assessment for development, amendment, or revision of land management plans.

Chapter 20—Land Management Plan

This chapter describes the land management plan under the 2012 Planning Rule and explains the procedures for developing, amending, and revising land management plans.

Chapter 30—Monitoring

This chapter describes the plan monitoring program, broader-scale monitoring strategy, and biennial evaluation of the monitoring information for land management planning.

Chapter 40—Key Processes Supporting Land Management Planning

This chapter describes the adaptive management framework, use of best available scientific information, public participation and the role of collaboration, and tribal consultation as it relates to land management plans.

Chapter 50—Objection Process

This chapter describes the process for the public to seek administrative review of plans, plan revisions, and plan amendments before their approval. This process is referred to as the objection process.

Chapter 60—Forest Vegetation Resource Planning

This chapter provides procedures for developing plan components and other plan content to meet National Forest Management Act (NFMA) and planning rule requirements for identifying lands that are not suitable for timber production, plan components for timber harvest for timber production or other purposes, limitations on timber harvest, and display of the planned timber sale program.

Chapter 70—Wilderness Evaluation

This chapter describes the process for identifying and evaluating lands that may be suitable for inclusion in the National Wilderness Preservation System and determining whether to recommend any such lands for wilderness designation.

Chapter 80—Wild and Scenic River Evaluation

This chapter describes the process for identifying and evaluating potential additions to the National Wild and Scenic Rivers System. This chapter also addresses interim management of river segments determined to be eligible and suitable, documentation of study results, as well as the process for notifying Congress of agency wild and scenic river recommendations.

Chapter 90—References

This chapter contains exhibits or references not easily found electronically.

Regulatory Certifications

Regulatory Impact

This notice has been reviewed under USDA procedures and Executive Order (E.O.) 12866, Regulatory Planning and Review. The Office of Management and Budget (OMB) has reviewed this notice and has determined that it is a significant action. The proposed directives would not have an annual effect of $100 million or more on the economy nor adversely affect productivity, competition, jobs, the environment, public health or safety, nor State or local governments. The proposed directives would not interfere with an action taken or planned by another agency nor raise new legal or policy issues. Finally, the proposed directives would not alter the budgetary impact of entitlements, grants, user fees, or loan programs or the rights and obligations of recipients of such programs.

Moreover, the proposed directives have been considered in light of E.O. 13272 regarding proper consideration of small entities and the Small Business Regulatory Enforcement Fairness Act of 1996 (SBREFA), which amended the Regulatory Flexibility Act (5 U.S.C. 601 et seq.). No direct or indirect financial impact on small businesses or other entities has been identified. Therefore, it is hereby certified that these proposed directives will not have a significant economic impact on a substantial number of small entities as defined by the act.

Environmental Impact

These proposed directives provide the detailed direction to agency employees necessary to carry out the provisions of the final 2012 Planning Rule adopted at 36 CFR part 219 governing land management planning. Forest Service Handbook 1909.15, section 31.12 (57 FR 43208; September 18, 1992) excludes from documentation in an environmental assessment or impact statement “rules, regulations, or policies to establish Service-wide administrative procedures, program processes, or instructions.” The Agency's conclusion is that these proposed directives fall within this category of actions and that no extraordinary circumstances exist as currently defined that require preparation of an environmental assessment or an environmental impact statement.

No Takings Implications

These proposed directives have been analyzed in accordance with the principles and criteria contained in E.O. 12360, Governmental Actions and Interference with Constitutionally Protected Property Rights, and it has been determined that they would not pose the risk of a taking of private property as they are limited to the establishment of administrative procedures.

Energy Effects

These proposed directives have been analyzed under E.O. 13211, Actions Concerning Regulations That Significantly Affect Energy Supply, Distribution, or Use. It has been determined that they do not constitute a significant energy action as defined in the Executive Order.

Civil Justice Reform

These proposed directives have been reviewed under E.O. 12988, Civil Justice Reform. These proposed directives will direct the work of Forest Service employees and are not intended to preempt any State and local laws and regulations that might be in conflict or that would impede full implementation of these directives. The directives would not retroactively affect existing permits, contracts, or other instruments authorizing the occupancy and use of NFS lands and would not require the institution of administrative proceedings before parties may file suit in court challenging their provisions

Unfunded Mandates

Pursuant to Title II of the Unfunded Mandates Reform Act of 1995 (2 U.S.C. 1531-1538), which the President signed into law on March 22, 1995, the effects of these proposed directives on State, local, and Tribal governments, and on the private sector have been assessed and do not compel the expenditure of $100 million or more by any State, local, or Tribal government, or anyone in the private sector. Therefore, a statement under section 202 of the act is not required.

Federalism

The Agency has considered these proposed directives under the requirements of E.O. 13132, Federalism. The Agency has made a preliminary assessment that they conform with the federalism principles set out in this Executive Order; would not impose any significant compliance costs on the States; and would not have substantial direct effects on the States, on the relationship between the national government and the States, or on the distribution of power and responsibilities among the various levels of government. Moreover, these proposed directives address the land management planning process on National Forests, Grasslands or other units of the NFS, which do not directly affect the States. Based on comments received on these proposed directives, the Agency will consider if any additional consultation will be needed with State and local governments prior to adopting final directives.

Consultation and Coordination With Indian Tribal Governments

The Forest Service will conduct government-to-government consultation on the planning directives. The Forest Service considers tribal consultation as an ongoing, iterative process that encompasses development of the proposed directives through the issuance of final directives. During development of the 2012 Planning Rule, between September 23, 2010, and publication of the final rule on April 9, 2012, the Agency held 16 consultation meetings across the Country. In addition, Forest Service leaders held one-on-one meetings, as requested, with tribal leaders throughout the time period of development of the rule.

The Agency will contact all federally recognized Tribes and Alaska Native Corporations by mail to formally initiate consultation on the proposed directives and seek comments within 120 days.

Controlling Paperwork Burdens on the Public

These proposed directives do not contain any record keeping or reporting requirements or other information collection requirements as defined in 5 CFR part 1320 and, therefore, impose no paperwork burden on the public. Accordingly, the review provisions of the Paperwork Reduction Act of 1995 (44 U.S.C. 3501 et seq.) and implementing regulations at 5 CFR part 1320 do not apply.

Chapter 50 of these proposed directives contains information collection requirements as defined in 5 CFR part 1320. The information collection requirements have been approved by the Office of Management and Budget and assigned control number 0596-0158.

Conclusion

The Forest Service has developed these planning directives to set forth the legal authorities, objectives, policy, responsibilities, direction, and overall guidance for Forest Service Line Officers, agency employees, and others to use the 2012 Planning Rule. The proposed directives provide consistent interpretation of the 2012 Planning Rule for Line and Staff Officers, and interdisciplinary teams.

The 2012 Planning Rule and the proposed FSM and FSH sections together provide requirements and guidance for the Agency to adaptively manage the NFS to maintain and restore NFS land and water ecosystems and protect species while providing for ecosystem services and multiple uses. The proposed directives are intended to guide the development, revision, and amendment of land management plans to provide for the sustainability of ecosystems and resources; meet the need for forest restoration and conservation, watershed protection, and species diversity and conservation; and assist the Agency in providing a sustainable flow of benefits, services, and uses of NFS lands that provide jobs and contribute to the economic and social sustainability of communities.

By seeking public notice and comment on these proposed directives, the Agency is continuing its commitment to improve public involvement and transparency in decisionmaking associated with developing, amending, or revising a land management plan.

When the Agency offers the opportunity for public notice and comment on a proposed revision of a Forest Service Manual or Handbook revision, the Agency publishes a notice of a proposed revision with a minimum 60-day comment period. The Agency then considers the comments, makes any changes, drafts, and publishes a final Federal Register notice explaining the final directive and the rationale for any changes made from the propose. At a minimum, this process takes 6 months but normally takes 9-12 months.

The Forest Service is committed to providing adequate opportunities for the public to comment on administrative directives that are of substantial public interest or controversy, as provided in the regulations at 36 CFR part 216. All comments on these proposed directives will be considered in the development of the final directives. The full text of these proposed directives are available on the World Wide Web/Internet at http://www.fs.usda.gov/goto/planningrule/directives. Single paper copies are available upon request from the address and phone numbers listed earlier in this notice as well as from the nearest Regional Office, the locations of which are also available on the Washington Office headquarters homepage on the World Wide Web/Internet: www.fs.fed.us/.

Dated: February 21, 2013.
Thomas L. Tidwell,
Chief.

[FR Doc. 2013-04470 Filed 2-26-13; 8:45 am]

BILLING CODE 3410-11-P